DEPARTMENT OF THE INTERIOR

Bureau of Land Management

[LLMT929000-212-L14400000.BJ0000; MO#450015384]

Notice of Proposed Filing of Plats of Survey; Montana

AGENCY: Bureau of Land Management, Interior.

ACTION: Notice of proposed official filing.

SUMMARY: The plats of survey for the lands described in this notice were filed on June 28, 2021, in the Bureau of Land Management (BLM) Montana State Office, Billings, Montana. This publication provides notice and an opportunity for the public to protest the determinations made on the June 28, 2021, plats of survey.

DATES: A person or party who wishes to protest this decision must file a notice of protest in time for it to be received in the BLM Montana State Office no later than April 8, 2022.

ADDRESSES: A copy of the plats may be obtained from the Public Room at the BLM Montana State Office, 5001 Southgate Drive, Billings, Montana 59101, upon required payment. The plats may be viewed at this location at no cost.

FOR FURTHER INFORMATION CONTACT: Joshua Alexander, BLM Chief Cadastral Surveyor for Montana; telephone: (406) 896-5123; email: jalexand@blm.gov. Individuals in the United States who are deaf, deafblind, hard of hearing, or have a speech disability may dial 711 (TTY, TDD, or TeleBraille) to access telecommunications relay services for contacting Mr. Alexander. Individuals outside the United States should use the relay services offered within their country to make international calls to the point-of-contact in the United States.

SUPPLEMENTARY INFORMATION: The survey was executed at the request of the Field Manager, Miles City Field Office, Miles City, Montana and was necessary to exclude a privately owned cemetery from the land description of a proposed BLM land acquisition known as the Lower Musselshell River Acquisition Project. The BLM recorded the plats of survey in the Garfield County Courthouse on June 28, 2021, to create the new land descriptions for the title opinion of the proposed acquisition. After the plats were filed and recorded, the BLM and the private landowner terminated the entire proposed land acquisition. Even though the proposed land acquisition was terminated, this notice is intended to provide the public with an opportunity to protest the BLM's corner determinations and land descriptions as shown on the plats of survey.

The lands surveyed are:

Principal Meridian, Montana

T. 18 N., R. 30 E.

Sec. 18.

A person or party who wishes to protest the filed plats of survey identified earlier must file a written notice of protest with the BLM Chief Cadastral Surveyor for Montana at the address listed in the ADDRESSES section of this notice. The notice of protest must identify the plat(s) of survey that the person or party wishes to protest. The notice of protest must be received in the BLM Montana State Office no later than the date described in the DATES section of this notice; If received after regular business hours, a notice of protest will be considered filed the next business day. A written statement of reasons in support of the protest, if not filed with the notice of protest, must be filed with the BLM Chief Cadastral Surveyor for Montana within 30 calendar days after the notice of protest is received.

Upon receipt of a timely protest, and after a review of the protest, the Authorized Officer will issue a decision either dismissing or otherwise resolving the protest.

If a notice of protest is received after the date described in the DATES section of this notice and the 10-calendar-day grace period provided in 43 CFR 4.401(a), the notice of protest will be untimely, may not be considered, and may be dismissed.

Before including your address, phone number, email address, or other personal identifying information in a notice of protest or statement of reasons, you should be aware that the documents you submit—including your personal identifying information—may be made publicly available in their entirety at any time. While you can ask us to withhold your personal identifying information from public review, we cannot guarantee that we will be able to do so.

(Authority: 43 U.S.C. Chapter 3)

Joshua F. Alexander,
Chief Cadastral Surveyor for Montana.

[FR Doc. 2022-04978 Filed 3-8-22; 8:45 am]

BILLING CODE 4310-DN-P